DEPARTMENT OF COMMERCE

National Oceanic and Atmospheric Administration

Agency Information Collection Activities; Submission to the Office of Management and Budget (OMB) for Review and Approval; Comment Request; Day 8-10 Timeline Forecast Survey and Focus Groups

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 18, 2020.

ADDRESSES: Interested persons are invited to submit written comments to Adrienne Thomas, NOAA PRA Officer, at Adrienne.thomas@noaa.gov. Please reference OMB Control Number 0648-0757 in the subject line of your comments. Do not submit Confidential Business Information or otherwise sensitive or protected information.

FOR FURTHER INFORMATION CONTACT: Requests for additional information or specific questions related to collection activities should be directed to James A. Nelson, Jr., Development and Training Branch Chief at the Weather Prediction Center, NOAA/NWS/NCEP/WPC, 5830 University Research Court—College Park, MD 20740, (301) 683-1493, james.a.nelson@noaa.gov.

SUPPLEMENTARY INFORMATION:

I. Abstract

Increasingly, user demand is reflecting a need for probabilistic forecasts in the 8 to 10-day time frame. Improved forecast capability means the NOAA National Weather Service Weather Prediction Center (WPC) can begin to address this user need, but the task is complicated by the range of possible forecast format and delivery needs and options. WPC is seeking user-tested and informed guidance on how to present forecasts at the 8 to 10-day timeframe. WPC is looking to understand how probabilistic forecasts can improve core user decision-making in this range, and for guidance on the format and design of forecasts, based on iterative field-testing of core users. WPC requires a robust understanding of core user needs in this time frame, as well as explanation of the preferred web delivery methods and the optimal mix of design and delivery considerations. WPC also requires information about what products end-users are utilizing and how they are being used. To assess ways to improve guidance products for producing forecasts, the project will include meeting with forecasters, conducting phone interviews and web-based focus groups with core partners and posting an online public survey.

The information will provide WPC staff with the guidance needed to develop 8 to 10-day weather prediction products. Creating easier to use visualizations and communication products will provide the public and decision-makers accurate information that is understandable and will enhance value for a variety of weather-related decision processes. Survey and focus group results will define how to present the probabilistic forecast tools clearly and concisely.

II. Method of Collection

The information collected via the online survey will make use of automated, electronic, mechanical, and other technological techniques. The online survey will use a “responsive” web-based survey, meaning that its display will adapt to a desktop or mobile device screen allowing the public to take the survey whenever they have internet access. The focus group data will be collected manually and entered directly into a desktop computer.

III. Data

OMB Control Number: 0648-0757.

Form Number(s): None.

Type of Review: Extension of a current information collection.

Affected Public: Individuals or households and Business or other for-profit organizations.

Estimated Number of Respondents: 775.

Estimated Time per Response: 30 min for survey, 1 hour for interviews, 2 hours for focus groups.

Estimated Total Annual Burden Hours: 485 hours.

Estimated Total Annual Cost to Public: None.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-15645 Filed 7-17-20; 8:45 am]

BILLING CODE 3510-KE-P